DEPARTMENT OF THE INTERIOR

Bureau of Ocean Energy Management

[Docket No. BOEM-2016-0066]

Environmental Assessment for Commercial Wind Lease Issuance and Site Assessment Activities on the Atlantic Outer Continental Shelf Offshore New York; MMAA104000

AGENCY: Bureau of Ocean Energy Management (BOEM), Interior.

ACTION: Notice of availability of a revised environmental assessment and a finding of no significant impact.

SUMMARY: BOEM is announcing the availability of a revised environmental assessment (EA) and finding of no significant impact (FONSI) for commercial wind lease issuance, site characterization activities (geophysical, geotechnical, archaeological, and biological surveys), and site assessment activities (including the installation and operation of a meteorological tower or buoys or both a tower and buoys) on the Atlantic Outer Continental Shelf offshore New York. The revised EA provides a discussion of potential impacts of the proposed action and an analysis of reasonable alternatives to the proposed action. In accordance with the requirements of the National Environmental Policy Act (NEPA) and the Council on Environmental Quality's (CEQ) regulations implementing NEPA at 40 CFR 1500-1508, BOEM issued a FONSI supported by the analysis in the revised EA. The FONSI concluded that the reasonably foreseeable environmental impacts associated with the proposed action and alternatives, as set forth in the EA, would not significantly impact the quality of the human environment; therefore, the preparation of an environmental impact statement is not required. This notice is being published concurrently with the Final Sale Notice for the New York Wind Energy Area (WEA). These documents and associated information are available on BOEM's Web site at http://www.boem.gov/New-York/.

FOR FURTHER INFORMATION CONTACT: Michelle Morin, BOEM Office of Renewable Energy Programs, 45600 Woodland Road, Sterling, Virginia 20166, (703) 787-1340 or michelle.morin@boem.gov.

SUPPLEMENTARY INFORMATION: In June 2016, BOEM published an EA to consider the reasonably foreseeable environmental consequences associated with commercial wind lease issuance, site characterization activities, and site assessment activities within the WEA offshore New York. A notice was published on June 6, 2016, to announce the availability of the EA and initiate a 30-day public comment period (81 FR 36344). Due to requests for extension, the public comment period closed on July 13, 2016. The EA was subsequently revised based on comments received through Regulations.gov and at public information meetings during the comment period. The revised EA provides updated environmental data, incorporates the results of consultations, and reflects a change to the proposed lease area (i.e., removal of Cholera Bank sensitive habitat). The revised EA also includes a summary of comments received on the June 2016 EA and BOEM's responses to those comments.

In addition to the proposed action, the revised EA considers two alternatives: (1) Restricting site assessment structure placement within 2 nm (3.7 km) of the traffic separation scheme, and (2) no action. BOEM's analysis of the proposed action and alternatives takes into account standard operating conditions (SOCs) designed to avoid or minimize potential impacts to marine mammals and sea turtles. The SOCs can be found in Appendix B of the revised EA.

BOEM will use the revised EA to inform its decisions regarding lease issuance in the New York WEA and subsequent review of site assessment plans in the lease area. The competitive leasing process is set forth at 30 CFR 585.210-585.225. A future lessee may propose a wind energy generation facility on its lease by submitting a construction and operations plan (COP) to BOEM. BOEM would then prepare a separate site- and project-specific NEPA analysis of the activities proposed in the COP.

Authority: This notice of availability for an EA is in compliance with the National Environmental Policy Act (NEPA) of 1969, as amended (42 U.S.C. 4231 et seq.), and is published pursuant to 43 CFR 46.305.

Dated: October 25, 2016.
Abigail Ross Hopper,
Director, Bureau of Ocean Energy Management.

[FR Doc. 2016-26237 Filed 10-28-16; 8:45 am]

BILLING CODE 4310-MR-P